DEPARTMENT OF HOMELAND SECURITY

U.S. Customs and Border Protection

[Docket No. USCBP-2015-0027]

U.S. Customs and Border Protection User Fee Advisory Committee (UFAC) Charter Renewal.

AGENCY: U.S. Customs and Border Protection, Department of Homeland Security (DHS).

ACTION: Committee Management; Notice of Federal Advisory Committee Charter Renewal

SUMMARY: The Secretary of the Department of Homeland Security (DHS) has determined that the renewal of the charter of the U.S. Customs and Border Protection User Fee Advisory Committee (UFAC) is necessary and in the public interest in connection with the U.S. Customs and Border Protection's (CBP's) performance of its duties. This determination follows consultation with the Committee Management Secretariat, General Services Administration.

Name of Committee: U.S. Customs and Border Protection User Fee Advisory Committee (UFAC).

ADDRESSES: If you desire to submit comments on this action, they must be submitted by October 9, 2015. Comments must be identified by docket number and may be submitted by one of the following methods:

• Federal eRulemaking Portal: http://www.regulations.gov. Follow the instructions for submitting comments.

• Email: (Tradeevents@dhs.gov). Include the docket number in the subject line of the message.

• Fax: (202) 325-4290.

• Mail: Ms. Wanda Tate, Office of Trade Relations, U.S. Customs and Border Protection, 1300 Pennsylvania Avenue NW., Room 3.5A, Washington, DC 20229.

• Instructions: All submissions received must include the words “Department of Homeland Security” and USCBP-2015-0027, the docket number for this action. Comments received will be posted without alteration at http://www.regulations.gov including any personal information provided.

• Docket: For access to the docket to read background documents or comments received, go to http://www.regulations.gov and search for Docket Number USCBP-2015-0027. To submit a comment, see the link on the Regulations.gov Web site for “How do I submit a comment?” located on the right hand side of the main site page.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

Purpose and Objective: The charter of the U.S. Customs and Border Protection User Fee Advisory Committee (UFAC) is being renewed for two years in accordance with the Federal Advisory Committee Act (FACA) 5 U.S.C. Appendix. A copy of the charter can be found at http://www.cbp.gov/trade/stakeholder-engagement/user-fee-advisory-committee. UFAC is tasked with providing advice to the Secretary of the Department of Homeland Security through the Commissioner of U.S. Customs and Border Protection on matters related to the performance of inspections coinciding with the assessment of an agriculture, customs, or immigration user fee.

Duration: The committee's charter is effective June 10, 2015, and expires June 10, 2017.

Responsible CBP Officials: Ms. Maria Luisa Boyce, Office of Trade Relations, U.S. Customs and Border Protection, 1300 Pennsylvania Avenue NW., Room 3.5A, Washington, DC 20229; telephone (202) 344-1440.

Dated: August 5, 2015.
Maria Luisa Boyce,
Senior Advisor for Private Sector Engagement/Executive Director, Office of Trade Relations.

[FR Doc. 2015-19611 Filed 8-7-15; 8:45 am]

BILLING CODE 9111-14-P